DEPARTMENT OF TRANSPORTATION

Federal Aviation Administration

14 CFR Part 39

[Docket No. FAA-2005-23478; Directorate Identifier 2005-NM-175-AD]

RIN 2120-AA64

Airworthiness Directives; Gulfstream Aerospace LP Model Galaxy and Model Gulfstream 200 Airplanes

AGENCY: Federal Aviation Administration (FAA), Department of Transportation (DOT).

ACTION: Notice of proposed rulemaking (NPRM).

SUMMARY: The FAA proposes to adopt a new airworthiness directive (AD) for all Gulfstream Aerospace LP Model Galaxy and Model Gulfstream 200 airplanes. This proposed AD would require revising the Limitations section of the airplane flight manual (AFM) by incorporating revised takeoff performance tables. This proposed AD results from a correction of the power setting logic and table limits in the performance model by the engine manufacturer. We are proposing this AD to ensure that the flightcrew is provided with correct information to ensure a safe takeoff at certain altitudes.

DATES: We must receive comments on this proposed AD by February 3, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Gulfstream Aerospace Corporation, P.O. Box 2206, Mail Station D-25, Savannah, Georgia 31402-2206, for service information identified in this proposed AD.

FOR FURTHER INFORMATION CONTACT: Mike Borfitz, Aerospace Engineer, International Branch, ANM-116, FAA, Transport Airplane Directorate, 1601 Lind Avenue, SW., Renton, Washington 98055-4056; telephone (425) 227-2677; fax (425) 227-1149.

SUPPLEMENTARY INFORMATION:

Comments Invited

We invite you to submit any relevant written data, views, or arguments regarding this proposed AD. Send your comments to an address listed in the ADDRESSES section. Include the docket number “FAA-2005-23478; Directorate Identifier 2005-NM-175-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Administration of Israel (CAAI), which is the airworthiness authority for Israel, notified us that an unsafe condition may exist on Gulfstream Aerospace LP Model Galaxy and Model Gulfstream 200 airplanes. The CAAI advises that the engine manufacturer has corrected the power setting logic and table limits in the performance model. This correction was necessary to bring the model in line with the control software currently installed in the Full Authority Digital Engine Control (FADEC). The new power setting logic sets lower takeoff and automatic performance reserve (APR) N1 values. This applies to elevations of 6,000 feet and higher when outside air temperature (OAT) is below standard day conditions, as defined by the Instrumentation, Systems, and Automations Society (ISA). This correction is intended to ensure that the flightcrew is provided with correct information to ensure a safe takeoff at certain altitudes.

Relevant Service Information

Gulfstream Aerospace LP has issued Temporary Revision (TR) 7, dated August 18, 2003, to the Gulfstream 200 Airplane Flight Manual. The TR describes procedures for incorporating revised takeoff performance tables to prevent reduced balanced field length and single engine climb performance. Accomplishing the actions specified in the TR is intended to adequately address the unsafe condition. The CAAI mandated the service information and issued Israeli airworthiness directive 72-03-05-09, dated September 22, 2003, to ensure the continued airworthiness of these airplanes in Israel.

FAA's Determination and Requirements of the Proposed AD

These airplane models are manufactured in Israel and are type certificated for operation in the United States under the provisions of § 21.29 of the Federal Aviation Regulations (14 CFR 21.29) and the applicable bilateral airworthiness agreement. Pursuant to this bilateral airworthiness agreement, the CAAI has kept the FAA informed of the situation described above. We have examined the CAAI's findings, evaluated all pertinent information, and determined that we need to issue an AD for airplanes of this type design that are certificated for operation in the United States.

Therefore, we are proposing this AD, which would require accomplishing the actions specified in the service information described previously.

Costs of Compliance

This proposed AD would affect about 82 airplanes of U.S. registry. The proposed AFM revision would take about 1 work hour per airplane, at an average labor rate of $65 per work hour. Based on these figures, the estimated cost of the proposed AD for U.S. operators is $5,330, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Gulfstream Aerospace LP (Formerly Israel Aircraft Industries, Ltd.): Docket No. FAA-2005-23478; Directorate Identifier 2005-NM-175-AD.

Comments Due Date

(a) The FAA must receive comments on this AD action by February 3, 2006.

Affected ADs

(b) None.

Applicability

(c) This AD applies to all Gulfstream Aerospace LP Model Galaxy and Model Gulfstream 200 airplanes, certificated in any category.

Unsafe Condition

(d) This AD results from an engine performance modification done by the engine manufacturer. We are issuing this AD to ensure that the flightcrew is provided with correct information to ensure a safe takeoff at certain altitudes.

Compliance

(e) You are responsible for having the actions required by this AD performed within the compliance times specified, unless the actions have already been done.

Airplane Flight Manual (AFM) Revision

(f) Within 50 flight hours after the effective date of this AD: Revise the Limitations section of the Gulfstream 200 AFM, to include the information in Gulfstream Temporary Revision (TR) 7, dated August 18, 2003, as specified in the TR. The TR includes procedures for incorporating revised takeoff performance tables. Thereafter, operate the airplane according to the limitations and procedures in the TR. This may be done by inserting a copy of Gulfstream TR 7 in the AFM. When the TR has been included in the general revisions of the AFM, the general revisions may be inserted in the AFM, provided the relevant information in the general revision is identical to that in Gulfstream TR 7.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Israeli airworthiness directive 72-03-05-09, dated September 22, 2003, also addresses the subject of this AD.

Issued in Renton, Washington, on December 20, 2005.
Kalene C. Yanamura,
Acting Manager, Transport Airplane Directorate, Aircraft Certification Service.

[FR Doc. E5-8241 Filed 1-3-06; 8:45 am]

BILLING CODE 4910-13-P